DEPARTMENT OF ENERGY

Federal Energy Regulatory Commission

Notice of Application for Lease of Project Lands for Non-Project Use and Soliciting Comments, Motions To Intervene, and Protests

April 13, 2000.

Take notice that the following hydroelectric application has been filed with the Commission and is available for public inspection:

a. Application Type: Lease of Project Lands for Non-Project Use.

b. Project No.: 2503-057.

c. Date Filed: March 24, 2000.

d. Applicant: Duke Energy Corporation.

e. Name of Project: Keowee-Toxaway Project.

f. Location: The project is located on Lake Keowee in Oconee County, South Carolina.

g. Filed Pursuant to: Federal Power Act, 16 U.S.C. 791(a)-825(r).

h. Applicant Contact: Mr. Joe Hall, Lake Management Representative, Duke Power Company, P.O. Box 1006, Charlotte, NC 28201-1006, (704) 382-8576.

i. FERC Contact: Any questions about this notice should be addressed to Amy K. Chang, E-mail address, amy.chang@ferc.fed.us, or telephone number, (202) 208-1199.

j. Deadline for filing comments and/or motions: May 17, 2000.

All documents (original and eight copies) should be filed with: David P. Boergers, Secretary, Federal Energy Regulatory Commission, 888 First Street, NE, Washington, DC 20426. Please include the Project Number, P-2503-057, on any comments or motions filed.

k. Description of Filing: Duke Energy Corporation (Licensee) requests Commission approval to grant a lease to Keowee Key Property Owner's Association (KKPOA) for five commercial/residential marine areas which would utilize 12 parcels of land containing a total of 11.34 acres. This proposal involves the use of the following existing facilities: 1 boat ramp, 2 commercial gasoline sales docks, and 12 cluster dock facilities with a total of 185 boat slips. Some of these existing facilities were previously approved by the Commission (see 28 FERC ¶62,440 and 35 FERC ¶162,025). In addition, KKPOA has proposed to construct an additional 5 cluster dock facilities with a total of 90 boat slips.

l. Locations of the Application: A copy of the application is available for inspection and reproduction at the Commission's Public Reference Room, located at 888 First Street, NE, Room 2A, Washington, DC 20426, or by calling (202) 208-1371. The application may be viewed on the web at www.ferc.fed.us/online/rims.htm. Call (202) 208-2222 for assistance.

m. Individuals desiring to be included on the Commission's mailing list should so indicate by writing to the Secretary of the Commission.

Comments, Protests, or Motions to Intervene—Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, NE, Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 00-9763 Filed 4-18-00; 8:45 am]

BILLING CODE 6717-01-M